DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 10, 2004.

Interested persons are invited to submit written comments regarding the subject matter of the investigations to the Director, Division of Trade Adjustment Assistance, at the address shown below, not later than December 10, 2004.

The petitions filed in this case are available for inspection at the Office of the Director, Division of Trade Adjustment Assistance, Employment and Training Administration, U.S. Department of Labor, Room C-5311, 200 Constitution Avenue, NW., Washington, DC 20210.

Signed in Washington, DC this 19th day of November, 2004.
Timothy Sullivan,
Director, Division of Trade Adjustment Assistance.

Appendix
[Petitions instituted between 11/01/2004 and 11/12/2004]
TA-W | Subject firm (petitioners) | Location | Date of institution | Date of petition
55,892 | Learjet, Inc. (Wkrs) | Indianapolis, IN | 11/01/2004 | 10/27/2004
55,893 | Fiskars Brands, Inc. (Comp) | Wausau, WI | 11/01/2004 | 10/29/2004
55,894 | Delta Mills (Wkrs) | Wallace, SC | 11/01/2004 | 10/27/2004
55,895 | Rosemont Analytical, Inc. (Comp) | Orrville, OH | 11/01/2004 | 10/21/2004
55,896 | Pliant Corporation (Comp) | Harrisville, RI | 11/01/2004 | 10/28/2004
55,897 | Arrow Electronics, Inc. (Comp) | Sun Valley, CA | 11/01/2004 | 10/29/2004
55,898 | Glenshaw Glass Co. (GMP) | Glenshaw, PA | 11/01/2004 | 10/11/2004
55,899 | Merchants Metal (State) | San Fernando, CA | 11/02/2004 | 10/13/2004
55,900 | Alan White Company, Inc. (SCIW) | Stamps, AR | 11/02/2004 | 10/29/2004
55,901 | Raltron Electronics (State) | Miami, FL | 11/02/2004 | 11/01/2004
55,902 | Lion Ribbon Company, Inc. (Comp) | Anniston, AL | 11/02/2004 | 11/01/2004
55,903 | Butternut Bakery (Wkrs) | Grand Rapids, MI | 11/02/2004 | 10/09/2004
55,904 | Agilent Technologies, Inc. (Comp) | Ft. Collins, CO | 11/02/2004 | 10/19/2004
55,905 | Media Copy—Infodisc Technologies (Wkrs) | El Paso, TX | 11/02/2004 | 11/01/2004
55,906 | Osram Sylvania (Wkrs) | Danvers, MA | 11/02/2004 | 10/19/2004
55,907 | GlaxoSmithKline (Comp) | Bristol, TN | 11/02/2004 | 10/11/2004
55,908 | Boericke and Tafel (State) | Santa Rosa, CA | 11/03/2004 | 10/21/2004
55,909 | Turbon International (Comp) | York, PA | 11/03/2004 | 11/03/2004
55,910 | Temoinsa Corporation (Comp) | Platsburgh, NY | 11/03/2004 | 10/27/2004
55,911 | C-Tech Industries (Wkrs) | Humboldt, IA | 11/03/2004 | 11/01/2004
55,912 | Better Bags, Inc. (State) | Houston, TX | 11/03/2004 | 10/29/2004
55,913 | Harper's Pet Products, Inc. (Wkrs) | Chicago, IL | 11/04/2004 | 11/03/2004
55,914 | American Uniform Co. (Comp) | Cleveland, TN | 11/04/2004 | 11/03/2004
55,915 | Freudenberg Nonwovens (State) | Madison, TN | 11/04/2004 | 11/02/2004
55,916 | Furnlite, Inc. (Comp) | Fallston, NC | 11/04/2004 | 10/26/2004
55,917 | Precision Dynamics Corp. (Comp) | San Fernando, CA | 11/04/2004 | 10/21/2004
55,918 | Alpha Spectra (State) | Grand Junction, CO | 11/04/2004 | 11/02/2004
55,919 | Macsteel Service Centers USA (Comp) | Liverpool, NY | 11/04/2004 | 10/18/2004
55,920 | Village Smith Furniture Makers (State) | Chattanooga, TN | 11/04/2004 | 11/02/2004
55,921 | AgWorld Supports Systems, LLC (Comp) | Hermiston, OR | 11/04/2004 | 11/02/2004
55,922 | Oldham Saw Company (The) (Comp) | W. Jefferson, NC | 11/04/2004 | 10/25/2004
55,923 | OOCL (USA), Inc. (Wkrs) | Bothell, WA | 11/04/2004 | 11/01/2004
55,924 | Castle, Inc. (State) | Greenville, SC | 11/04/2004 | 11/02/2004
55,925 | Lakewood Dyes Yarns (Comp) | Cramerton, NC | 11/04/2004 | 10/25/2004
55,926 | Emerson Heating Products (Comp) | Vernon, AL | 11/04/2004 | 11/03/2004
55,927 | A-One Hosiery (Wkrs) | Ft. Payne, AL | 11/04/2004 | 11/02/2004
55,928 | Perky Cap Co. (Wkrs) | Eatonton, GA | 11/04/2004 | 11/01/2004
55,929 | Agere Systems (IBEW) | Orlando, FL | 11/04/2004 | 10/27/2004
55,930 | TriVirix (Comp) | Salt Lake City, UT | 11/04/2004 | 10/26/2004
55,931 | Advanced Energy Industries, Inc. (Comp) | Ft. Collins, CO | 11/04/2004 | 11/01/2004
55,932 | Leon-Ferenback, Inc. (Comp) | Johnson City, TN | 11/04/2004 | 10/13/2004
55,933 | Artisan Software Tools, Inc. (Comp) | Portland, OR | 11/04/2004 | 11/03/2004
55,934 | Bogner of America (Comp) | Newport, VT | 11/04/2004 | 11/02/2004
55,935 | Faces by Bacon (DHS) Veneer (Wkrs) | Thomasville, NC | 11/04/2004 | 10/27/2004
55,936 | 3M Center (State) | St. Paul, MN | 11/05/2004 | 10/28/2004
55,937 | Cherry Corporation (Wkrs) | Waukegan, IL | 11/05/2004 | 11/03/2004
55,938 | Concept Plastics, Inc. (Comp) | High Point, NC | 11/05/2004 | 11/04/2004
55,939 | Gemcor (IAMAW) | W. Seneca, NY | 11/05/2004 | 10/26/2004
55,940 | D and B (Wkrs) | Bethlehem, PA | 11/05/2004 | 11/02/2004
55,941 | Gerity-Schultz Corp. (Comp) | Toledo, OH | 11/05/2004 | 10/12/2004
55,942 | Sierra Pine Ltd. (State) | Springfield, OR | 11/05/2004 | 10/29/2004
55,943 | Clinton Tube (USA) (Comp) | Plattsburgh, NY | 11/05/2004 | 10/26/2004
55,944 | Premium Allied Tool (Wkrs) | Owensboro, KY | 11/05/2004 | 10/29/2004
55,945 | Louisville Ladder (Comp) | Louisville, KY | 11/05/2004 | 11/01/2004
55,946 | Sanmina-SCI Corp. (Wkrs) | Salem, NH | 11/05/2004 | 11/03/2004
55,947 | Wehadkee Yarn Mills (Wkrs) | Roanoke, AL | 11/08/2004 | 11/04/2004
55,948 | Dixie Wrap (State) | Taylor, SC | 11/08/2004 | 10/28/2004
55,949 | Delaware Ribbon Mfg. (UNITE) | Philadelphia, PA | 11/08/2004 | 11/04/2004
55,950 | Enefco U.S.A., Inc. (Comp) | Auburn, ME | 11/08/2004 | 11/04/2004
55,951 | Graham Packaging (USWA) | New Kensington, PA | 11/08/2004 | 11/05/2004
55,952 | CMD Apparel (Comp) | Detroit, AL | 11/08/2004 | 11/05/2004
55,953 | Stimson Lumber Company (Comp) | Forest Grove, OR | 11/09/2004 | 11/05/2004
55,954 | Standard Register (Comp) | Radcliff, KY | 11/09/2004 | 11/05/2004
55,955 | Atlas Copco Compressors, Inc. (Wkrs) | Holyoke, MA | 11/09/2004 | 11/08/2004
55,956 | Sunrise Apparel, Inc. (Comp) | Concord, NC | 11/09/2004 | 11/05/2004
55,957 | Stellar Engineering, Inc. (State) | Warren, MI | 11/09/2004 | 11/04/2004
55,958 | LSI Logic (Wkrs) | Gresham, OR | 11/09/2004 | 11/03/2004
55,959 | Sterling Chemicals, Inc. (Wkrs) | Texas City, TX | 11/09/2004 | 11/08/2004
55,960 | Hunter Technologies (Comp) | Montross, VA | 11/09/2004 | 11/05/2004
55,961 | Thomas and Betts (Comp) | Jonesboro, AR | 11/09/2004 | 11/08/2004
55,962 | Expedia Corporate Travel (State) | Bellevue, WA | 11/09/2004 | 11/05/2004
55,963 | Square D (Comp) | Lincoln, NE | 11/09/2004 | 11/05/2004
55,964 | Accountemps (State) | Palm Coast, FL | 11/09/2004 | 11/08/2004
55,965 | Accidental Anomalies, Inc. (State) | Turner, ME | 11/09/2004 | 11/04/2004
55,966 | Vesuvius USA (Comp) | Hillsboro, TX | 11/09/2004 | 11/08/2004
55,967 | Lozier Corp. (Wkrs) | Joplin, MO | 11/09/2004 | 11/02/2004
55,968 | Bernette Lingerie Corp. (Wkrs) | New Holland, PA | 11/09/2004 | 10/28/2004
55,969 | Oxford Slacks (Comp) | Monroe, GA | 11/09/2004 | 11/05/2004
55,970 | Cecil Saydah International (Wkrs) | Somerset, KY | 11/09/2004 | 11/08/2004
55,971 | Davis Sales Associates (Comp) | Hickory, NC | 11/10/2004 | 11/02/2004
55,972 | AMI Semiconductor (Wkrs) | Pocatello, ID | 11/10/2004 | 10/30/2004
55,973 | Celanese Acetate LLC (Comp) | Rock Hill, SC | 11/10/2004 | 11/08/2004
55,974 | Schnadig Corporation (Comp) | Cornelia, GA | 11/10/2004 | 11/05/2004
55,975 | Global Metal Form LLC (Comp) | Scranton, PA | 11/10/2004 | 11/09/2004
55,976 | Anna Sportswear (UNITE) | Pen Argyl, PA | 11/10/2004 | 11/09/2000
55,977 | Unifi-Kinston, LLC (Comp) | Kinston, NC | 11/10/2004 | 11/03/2000
55,978 | Shakespeare Co. Monofilament (State) | Columbia, SC | 11/10/2004 | 11/05/2000
55,979 | VF Intimates, LP (Comp) | Monroeville, AL | 11/12/2004 | 11/10/2004
55,980 | MeadWestvaco Corporation (Comp) | Chillicothe, OH | 11/12/2004 | 11/11/2004
55,981 | Cer Bros. Bag Co. (Wkrs) | New London, MO | 11/12/2004 | 11/11/2004
55,982 | Hewlett Packard (Wkrs) | Corvallis, OR | 11/12/2004 | 11/10/2004
55,983 | SEH America, Inc. (Wkrs) | Vancouver, WA | 11/12/2004 | 11/10/2004
55,984 | H E Microwave Corporation (IAMAW) | Tucson, AZ | 11/12/2004 | 11/10/2004
55,985 | Hibino Corporation of America (Comp) | Gainesville, GA | 11/12/2004 | 11/09/2004

[FR Doc. 04-26373 Filed 11-29-04; 8:45 am]

BILLING CODE 7510-30-M